DEPARTMENT OF JUSTICE

Antitrust Division

Notice Pursuant to the National Cooperative Research and Production Act of 1993—The Open Group, L.L.C.

Notice is hereby given that, on March 30, 2017, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, ABB Automation GmbH, Minden, GERMANY; Aramco Services Company, Houston, TX; ARC Advisory Group, Inc., Dedham, MA; ARCHIT, Valby, DENMARK; Aspen Technology, Inc., Bedford, MA; BASF Corporation, Florham, NJ; Belcan, LLC, Oldsmar, FL; CentraleSupélec, Châtenay-Malabry, FRANCE; Cirrus Link Solutions, LLC, Spring Hill, KS; CTPartners S.A., Warszawa, POLAND; Emerson Process Management LLLP, Round Rock, TX; eVOLVE Gestão Empresarial, Barueri, BRAZIL; General Electric, Niskayuna, NY; Inductive Automation, Folsom, CA; Infinite Dimensions Integration, Inc., West Plains, MO; Intel Corporation, Santa Clara, CA; it SolutionCrew GmbH, Nussbaumen, SWITZERLAND; Koch Industries, Inc., Wichita, KS; Leidse Onderwijsinstellingen BV, Leiderdorp, THE NETHERLANDS; McLeod Consultancy Pty. Ltd., Canberra, AUSTRALIA; Merck & Co., Inc., Kenilworth, NJ; Mocana Corporation, San Francisco, CA; NxGN Pty., Ltd., Johannesburg, SOUTH AFRICA; nxtControl GmbH, Leobersdorf, AUSTRIA; OMEC Sp. z.o.o, Warsaw, POLAND; Praxair, Inc., Tanawanda, NY; Process Systems Enterprise Ltd., London, UNITED KINGDOM; Radix U.S., LLC, Houston, TX; Relcom, Inc., Forest Grove, OR; Rogerson Kratos, Irvine, CA; Invensys Systems, Inc., Foxboro, MA; Shenzhen Expressway Engineering Consultants Co., Ltd., Shenzhen, PEOPLE'S REPUBLIC OF CHINA; Siemens Industry, Inc., Spring House, PA; Silver Storm Solutions SL, Valladolid, SPAIN; Skayl, LLC, Scottsdale, AZ; Société Générale S.A., Paris, FRANCE; StackFrame, LLC, Sanford, FL; Strategy Alliance B.V., Puttershoek, THE NETHERLANDS; The Dow Chemical Company, Midland, MI; and Yokogawa Electric Corporation, Musashino, JAPAN, have been added as parties to this venture.

Also, BEDROCKmg, Hawthorn, AUSTRALIA; CALCULEX, Inc., Las Cruces, NM; Cordial Business Advisers AB, Stockholm, SWEDEN; Dividend Group Corp., Toronto, CANADA; EOH Mthombo (Pty) Ltd. t/a Wonderware, Bedfordview, SOUTH AFRICA; Eskom Holdings, Johannesburg, SOUTH AFRICA; Exostrategies, Inc., Woodland, CO; FEAC Institute, Monument, CO; Genesis Housing Association, London, UNITED KINGDOM; Incepture S.a.r.l., Rabat, MOROCCO; Link Consulting, S.A., Lisbon, PORTUGAL; Mariner Partners, Inc., Saint John, CANADA; Massachusetts Institute of Technology, Cambridge, MA; nVision IT (Pty) Ltd., Sandton, SOUTH AFRICA; Ohio University, Athens, OH; Osrodek Studiow nad Cyfrowym Panstwem, Lodz, POLAND; Processworks Pte., Ltd., Singapore, SINGAPORE; Salesforce.com, Inc., San Francisco, CA; State Farm Mutual Automobile Insurance Company, Bloomington, IL; Time-Critical Technologies, Natick, MA; and Wispa Systems-Parsons Brinckerhoff Africa, Johannesburg, SOUTH AFRICA, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on January 24, 2017. A notice was published in the Federal Register pursuant to Section 6(b) of the Act on February 27, 2017 (82 FR 11943).

Patricia A. Brink,
Director of Civil Enforcement, Antitrust Division.

[FR Doc. 2017-07590 Filed 4-13-17; 8:45 am]

BILLING CODE P